DEPARTMENT OF ENERGY

Office of Fossil Energy

[Docket Nos. FE C&E 01-67, and C&E 01-76]

Certification Notice—201; Notice of Filings of Coal Capability of CPV Pierce, Ltd., GenPower EW Frankfort, LLC, Redbud Energy LP, Desert Power LP, WFEC GENCO, LLC, Duke Energy McClain, LLC, PacifiCorp Power Marketing, Inc., Bastrop Energy Partners, L.P., AES Medina Vallely Cogen, L.L.C., and Entergy Power Ventures L.P. Powerplant and Industrial Fuel Act

AGENCY: Office of Fossil Energy, Department of Energy.

ACTION: Notice of filing.

SUMMARY: CPV Pierce, Ltd., GenPower EW Frankfort LLC, Redbud Energy LP, Desert Power LP, WFEC GENCO, LLC, Duke Energy McClain, LLC, PacifiCorp Power Marketing, Inc, Bastrop Energy Partners, L.P., AES Medina Valley Cogen, L.L.C., and Entergy Power Ventures L.P. submitted coal capability self-certifications pursuant to section 201 of the Powerplant and Industrial Fuel Use Act of 1978, as amended.

ADDRESSES: Copies of self-certification filings are available for public inspection, upon request, in the Office of Coal & Power Imports/Exports, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: CPV Pierce, Ltd (C&E 01-67).

Operator: CPV Pierce, Ltd.

Location: Polk County, FL.

Plant Configuration: Combined-cycle.

Capacity: 250 MW.

Fuel: Natural gas.

Purchasing Entities: Florida wholesale power market.

In-Service Date: First Quarter 2004.

Owner: GenPower EW Frankfort, LLC (C&E 01-68).

Operator: General Electric International, Inc.

Location: West Frankfort, IL.

Plant Configuration: Four combustion turbines.

Capacity: 320 MW.

Fuel: Natural gas.

Purchasing Entities: Wholesale power market.

In-Service Date: June, 2003.

Owner: Redbud Energy LP (C&E 01-69).

Operator: InterGen Operating Company (Redbud).

Location: Oklahoma County, OK.

Plant Configuration: Combined-cycle.

Capacity: 1200 MW.

Fuel: Natural gas.

Purchasing Entities: Wholesale power market.

In-Service Date: Spring 2003.

Owner: Desert Power, L.P. (C&E 01-70).

Operator: Desert Power, L.P.

Location: Tooele County, UT.

Plant Configuration: Two combustion turbines.

Capacity: 80 MW.

Fuel: Natural gas.

Purchasing Entities: Wholesale power market.

In-Service Date: July 1, 2001.

Owner: WFEC GENCO, LLC. (C&E 01-71).

Operator: WFEC GENCO, LLC.

Location: Caddo County, OK.

Plant Configuration: Simple-cycle.

Capacity: 90 MW.

Fuel: Natural gas.

Purchasing Entities: Coral Power, L.L.C.

In-Service Date: May 8, 2001.

Owner: Duke Energy McClain, LLC and Oklahoma Municipal Power Authority, (C&E 01-72).

Operator: Duke Energy McClain, LLC.

Location: McClain County, OK.

Plant Configuration: Combined-cycle.

Capacity: 520 MW.

Fuel: Natural gas.

Purchasing Entities: None.

In-Service Date: June 1, 2001.

Owner: PacifiCorp Power Marketing, Inc., (C&E 01-73).

Operator: PacifiCorp Power Marketing, Inc.

Location: Klamath Falls, OR.

Plant Configuration: Simple-cycle combustion turbine.

Capacity: 100 MW.

Fuel: Natural gas.

Purchasing Entities: Open Electricity Market.

In-Service Date: September 1, 2001.

Owner: Bastrop Energy Partners, L.P. (C&E 01-74).

Operator: Bastrop Energy Partners, L.P.

Location: Bastrop County, TX.

Plant Configuration: Combined-cycle.

Capacity: 550 MW.

Fuel: Natural gas.

Purchasing Entities: Unspecified customers.

In-Service Date: Summer 2002.

Owner: AES Medina Valley Cogen, L.L.C. (C&E 01-75).

Operator: AES Medina Valley Operations, L.L.C.

Location: Peoria County, IL.

Plant Configuration: Combined-cycle.

Capacity: 40 MW.

Fuel: Natural gas.

Purchasing Entities: Central Illinois Light Company.

In-Service Date: July 1, 2001.

Owner: Entergy Power Ventures, L.P. (C&E 01-76).

Operator: Entergy Power Ventures, L.P.

Location: Harrison County, TX.

Plant Configuration: Combined-cycle.

Capacity: 570 MW.

Fuel: Natural gas.

Purchasing Entities: Not yet determined.

In-Service Date: July 1, 2003.

Issued in Washington, DC, July 3, 2001.
Anthony J. Como,
Deputy Director, Electric Power Regulation, Office of Coal & Power Imports/Exports, Office of Coal & Power Systems, Office of Fossil Energy.

[FR Doc. 01-17176 Filed 7-9-01; 8:45 am]

BILLING CODE 6450-01-P